DEPARTMENT OF HOUSING AND URBAN DEVELOPMENT

48 CFR Part 2409

[Docket No. FR-5098-C-03]

RIN 2535-AA28

HUD Acquisition Regulation (HUDAR) Debarment and Suspension Procedures; Correcting Amendment

AGENCY: Office of the Secretary, HUD.

ACTION: Correcting amendment.

SUMMARY: This document amends HUD's regulations on debarment, suspension and ineligibility to correct cross-references to reflect changes made in previous rulemakings. A final rule, which was published on October 29, 2007, amended HUD's Acquisition Regulation (HUDAR), codified at title 48 of the Code of Federal Regulations (CFR), to include the debarment and suspension procedures specifically applicable to HUD's procurement contracts. Subsequent to the October 2007 final rule, HUD issued regulations that moved HUD's debarment and suspension regulations from 24 CFR part 24 to 2 CFR part 2424. At that time, HUD also adopted, by cross-reference, the governmentwide debarment and suspension regulations at 2 CFR part 180.

This correcting amendment revises the HUDAR at 48 CFR 2409.7001 to refer to the debarment and suspension regulations now located at 2 CFR parts 2424 and 180.

DATES: Effective Date: This correcting amendment is effective as of August 31, 2009.

FOR FURTHER INFORMATION CONTACT: Dane Narode, Associate General Counsel for Program Enforcement, Department of Housing and Urban Development, 1250 Maryland Avenue, SW., Suite 200, Washington DC 20024-0500; telephone number 202-708-2350 (this is not a toll-free number). Hearing- or speech-impaired individuals may access the telephone number listed above by calling the toll-free Federal Information Relay Service at 800-877-8339.

SUPPLEMENTARY INFORMATION: On December 27, 2007, HUD published a final rule titled “Implementation of OMB Guidance on Nonprocurement Debarment and Suspension” (72 FR 73487). The December 27, 2007, final rule moved HUD's debarment and suspension regulations from 24 CFR part 24 to 2 CFR part 2424 effective January 28, 2008, consistent with directions of the Office of Management and Budget (OMB) to all federal agencies to relocate agency-specific debarment and suspension regulations to a new title 2 of the CFR. The December 27, 2007, final rule also adopted the OMB governmentwide guidance on nonprocurement debarment and suspension, codified in 2 CFR part 180, along with HUD-specific amendments, including several conforming amendments throughout HUD's regulations. Many of these changes were revisions to cross-references required by the fact that many HUD regulations referred to HUD's debarment and suspension regulations, formerly codified at 24 CFR part 24, and these regulations needed updating to refer to 2 CFR part 2424. Specifically, HUD's acquisition regulation at 48 CFR 2409.7001 contains HUD's regulation on debarment and suspension but cross-references HUD's former nonprocurement debarment regulations at 24 CFR part 24, and states that, notwithstanding language to the contrary at former 24 CFR 24.220(a)(1), the nonprocurement regulations at 24 CFR part 24 also apply to HUD's debarment and suspensions in the realm of procurement acquisition.

Accordingly, this correcting amendment revises the cross-reference to 24 CFR part 24 to cross-reference those regulations in their current location, 2 CFR parts 180 and 2424. This change does not change the substantive meaning or impact of any of HUD's regulations, but solely corrects an incorrect cross-reference. A member of the public relying on the cross-reference in 48 CFR 2409.7001 would still be directed to the correct regulations, as 24 CFR part 24 now reads, in its entirety, “The policies, procedures, and requirements for debarment, suspension, and limited denial of participation are set forth in 2 CFR part 2424.” Part 2424, in turn, refers to part 180. While the meaning is the same, correcting this cross-reference is obviously more convenient for the public.

List of Subjects in 48 CFR Part 2409

Government procurement.

Accordingly, for the reasons described in the preamble, 48 CFR part 2409 is corrected by making the following correcting amendment:

PART 2409—CONTRACTOR QUALIFICATIONS

1. The authority citation continues to read as follows:

Authority: 40 U.S.C. 486(c); 42 U.S.C. 3535(d).

Subpart 2409.70—Debarment, Suspension, and Ineligibility

2. Revise § 2409.7001 to read as follows:

2409.7001 HUD regulations on debarment, suspension, and ineligibility.

HUD's policies and procedures concerning debarment and suspension are contained in 2 CFR parts 180 and 2424 and, notwithstanding 2 CFR 180.220(a)(1), apply to procurement contracts.

Dated: August 20, 2009.
Shaun Donovan,
Secretary.

[FR Doc. E9-20833 Filed 8-28-09; 8:45 am]

BILLING CODE 4210-67-P